FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 012027.

Title: The Hoegh/Maersk Ancillary Agreement.

Parties: Aequitas Holdings A/S; A.P. Moller-Maersk A/S; and Hoegh Autoliners A/S.

Filing Party: Wayne R. Rohde, Esq., Sher & Blackwell LLP, 1850 M Street, NW., Suite 900, Washington, DC 20036.

Synopsis: The Agreement relates to the acquisition of Maersk Shipping Singapore Ltd.'s stock by Hoegh Autoliners and provides that A.P. Moller-Maersk will not compete with Hoegh's car carrier services in the U.S. trades.

Agreement No.: 201132-009.

Title: New York/New Jersey-Port Newark Container Terminal LLC Lease (Lease No. L-PN-264).

Parties: The Port Authority of New York and New Jersey and Port Newark Container Terminal LLC.

Filing Party: Patricia W. Duemig, Senior Property Representative, the Port Authority of New York and New Jersey, New Jersey Marine Terminals, 260 Kellogg Street, Port Newark, NJ 07114.

Synopsis: The amendment provides for the Port Authority's approval to transfers and changes in ownership of Port Newark Container Terminal LLC.

By Order of the Federal Maritime Commission.
Dated: February 8, 2008.
Karen V. Gregory,
Assistant Secretary.

[FR Doc. E8-2675 Filed 2-12-08; 8:45 am]

BILLING CODE 6730-01-P